DEPARTMENT OF ENERGY

Federal Energy Regulatory Commission

Combined Notice of Filings #1

Take notice that the Commission received the following electric rate filings:

Docket Numbers: ER10-1818-012; ER10-1817-013; ER10-1819-014; ER10-1820-017.

Applicants: Public Service Company of Colorado.

Description: Second Supplement to January 14, 2016 Triennial Market Power Analysis and Notice of Change in Status of Public Service Company of Colorado, et al.

Filed Date: 12/7/16.

Accession Number: 20161207-5209.

Comments Due: 5 p.m. ET 12/28/16.

Docket Numbers: ER17-27-001.

Applicants: Nevada Power Company.

Description: Compliance filing: OATT Additional Revisions Attachment N and O to be effective 10/14/2016.

Filed Date: 12/8/16.

Accession Number: 20161208-5085.

Comments Due: 5 p.m. ET 12/29/16.

Docket Numbers: ER17-75-001.

Applicants: PJM Interconnection, L.L.C.

Description: Tariff Amendment: Queue Position X4-048/Y2-089, Service Agreement No. 3837 to be effective 10/1/2016.

Filed Date: 12/7/16.

Accession Number: 20161207-5187.

Comments Due: 5 p.m. ET 12/28/16.

Docket Numbers: ER17-394-000.

Applicants: KMC Thermo, LLC.

Description: Supplement to November 18, 2016 KMC Thermo, LLC tariff filing (Notice of Change in Status).

Filed Date: 12/7/16.

Accession Number: 20161207-5213.

Comments Due: 5 p.m. ET 12/28/16.

Docket Numbers: ER17-506-000.

Applicants: Midcontinent Independent System Operator, Inc., Ameren Illinois Company.

Description: § 205(d) Rate Filing: 2016-12-08_SA 2979 Ameren Illinois-J. Aron & Co. FCA (Hennepin) to be effective 10/13/2016.

Filed Date: 12/8/16.

Accession Number: 20161208-5099.

Comments Due: 5 p.m. ET 12/29/16.

Docket Numbers: ER17-507-000.

Applicants: Georgia Power Company.

Description: § 205(d) Rate Filing: GPCo 2016 PBOP Filing to be effective 1/1/2016.

Filed Date: 12/8/16.

Accession Number: 20161208-5118.

Comments Due: 5 p.m. ET 12/29/16.

Docket Numbers: ER17-508-000.

Applicants: Mississippi Power Company.

Description: § 205(d) Rate Filing: PBOP 2016 Filing to be effective 1/1/2016.

Filed Date: 12/8/16.

Accession Number: 20161208-5119.

Comments Due: 5 p.m. ET 12/29/16.

Docket Numbers: ER17-509-000.

Applicants: Southern Electric Generating Company.

Description: § 205(d) Rate Filing: SEGCo 2016 PBOP Filing to be effective 1/1/2016.

Filed Date: 12/8/16.

Accession Number: 20161208-5122.

Comments Due: 5 p.m. ET 12/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2016.
Nathaniel J. Davis, Sr.,
Deputy Secretary.

[FR Doc. 2016-30128 Filed 12-14-16; 8:45 am]

BILLING CODE 6717-01-P